DEPARTMENT OF HEALTH AND HUMAN SERVICES

National Institutes of Health

National Heart, Lung, and Blood Institute; Amended Notice of Meeting

Notice is hereby given of a change in the meeting of the National Heart, Lung, and Blood Institute Special Emphasis Panel, August 28, 2014, 10:00 a.m. to August 28, 2014, 05:00 p.m., National Institutes of Health, 6701 Rockledge Drive, RK-2 Suite 7180, Bethesda, MD, 20892 which was published in the Federal Register on August 04, 2014, 79 FR 45205-45206.

The meeting is amended to modify the panel name to “NIH Conference Grant Review (R13)”. The meeting is closed to the public.

Dated: August 19, 2014.
Michelle Trout,
Program Analyst, Office of Federal Advisory Committee Policy.

[FR Doc. 2014-20027 Filed 8-21-14; 8:45 am]

BILLING CODE 4140-01-P